ENVIRONMENTAL PROTECTION AGENCY

40 CFR Parts 52 and 81

[MN61-01-7286b; MN62-01-7287b; FRL-6901-2]

Approval and Promulgation of Implementation Plans; Minnesota Designation of Areas for Air Quality Planning Purposes; Minnesota

AGENCY: Environmental Protection Agency (EPA).

ACTION: Proposed rule.

SUMMARY: We are proposing to approve a State Implementation Plan (SIP) revision for Olmsted County, Minnesota, for the control of emissions of sulfur dioxide (SO2) in the city of Rochester. The Environmental Protection Agency is also proposing to approve the State's request to redesignate the Rochester nonattainment area to attainment of the SO2 National Ambient Air Quality Standards (NAAQS). In conjunction with these actions, EPA is also proposing to approve the maintenance plan for the city of Rochester, Olmsted County nonattainment area, which was submitted to ensure that attainment of the NAAQS will be maintained. The SIP revision, redesignation request and maintenance plan were submitted by the Minnesota Pollution Control Agency on November 4, 1998, and are approvable because they satisfy the requirements of the Clean Air Act. In the final rules section of this Federal Register, we are conditionally approving the SIP revision as a direct final rule without prior proposal, because we view this as a noncontroversial revision amendment and anticipate no adverse comments. A detailed rationale for the approval is set forth in the direct final rule. If no adverse comments are received in response to this proposed rule, no further activity is contemplated in relation to this proposed rule. If we receive adverse comments, the direct final rule will be withdrawn and all public comments received will be addressed in a subsequent final rule based on this proposed rule. We will not institute a second comment period on this action. Any parties interested in commenting on this action should do so at this time.

DATES: Comments on this proposed action must be received by April 9, 2001.

ADDRESSES: Written comments should be sent to: Carlton T. Nash, Chief, Regulation Development Section, Air Programs Branch (AR-18J), EPA Region 5, 77 West Jackson Boulevard, Chicago, Illinois 60604-3590.

FOR FURTHER INFORMATION CONTACT: Christos Panos, Regulation Development Section, Air Programs Branch (AR-18J), EPA Region 5, 77 West Jackson Boulevard, Chicago, Illinois 60604, (312) 353-8328.

SUPPLEMENTARY INFORMATION: For additional information, see the Direct Final notice which is located in the Rules section of this Federal Register. Copies of the request and the EPA's analysis are available for inspection at the above address. (Please telephone Christos Panos at (312) 353-8328 before visiting the Region 5 Office.)

Authority: 42 U.S.C. 7401 et seq.

Dated: October 27, 2000.
Gary Gulezian,
Acting Regional Administrator, Region 5.

[FR Doc. 01-5851 Filed 3-8-01; 8:45 am]

BILLING CODE 6560-50-P